DEPARTMENT OF DEFENSE

Department of the Army

ARMS Initiative Implementation; Meeting

AGENCY: Department of the Army, DoD.

ACTION: Notice of meeting.

SUMMARY: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. This meeting will be hosted by the U.S. Army, Operations Support Command. The purpose of the meeting is to update the EAC and public on the status of ongoing actions, new items of interest, and suggested future direction/actions. Topics for this meeting will include—Policy on Ownership of Property; ARMS Revenue and Revenue Projects; ARMS Approval Process; and Arsenal Support Program Initiative Update. This meeting is open to the public.

Date of Meeting: October 4-5, 2001.

Place of Meeting: Holiday Inn Rosslyn, 1900 North Fort Myer Drive, Arlington, VA 22209.

Time of Meeting: 8:30 a.m. -5 p.m. on October 4 and 7:30 a.m.-12 p.m. on October 5.

FOR FURTHER INFORMATION CONTACT: Mr. Mike Perez, U.S. Army Operations Support Command, Attn: AMSOS-CCM-E, Rock Island Arsenal, IL 61299, phone (309) 782-3360.

SUPPLEMENTARY INFORMATION: A block of rooms has been reserved at the Holiday Inn Rosslyn for the nights of 2-5 October 2001. The Holiday Inn Rosslyn is located at 1900 North Fort Myer Drive, Arlington, VA 22209, Local Phone (703) 807-2000. Please make your reservations by calling 800-368-3408. Be sure to mention the guest code acronym AMC. Reserve your room prior to September 11th to get the Government Rate of $119.00 a night. Also notify this office of your attendance by notifying Mike Perez, perezm@osc.army.mil, 309-782-3360 (DSN 793-3360). To insure adequate arrangements (transportation, conference facilities, etc.) for all attendees, we request your attendance notification with this office by September 14, 2001. Corporate casual is meeting attire.

Luz D. Ortiz,
Army Federal Register Liaison Officer.

[FR Doc. 01-21695 Filed 8-27-01; 8:45 am]

BILLING CODE 3710-08-M